DEPARTMENT OF TRANSPORTATION

Federal Transit Administration

Limitation on Claims Against Proposed Public Transportation Project—West Santa Ana Branch Transit Corridor Project, Cities of Los Angeles, Vernon, Huntington Park, Bell, Cudahy, South Gate, Downey, Paramount, Bellflower, Cerritos, and Artesia; County of Los Angeles, California

AGENCY: Federal Transit Administration (FTA), Department of Transportation (DOT).

ACTION: Notice.

SUMMARY: This notice announces final environmental actions taken by the Federal Transit Administration (FTA) regarding the West Santa Ana Branch Transit Corridor Project, Cities of Los Angeles, Vernon, Huntington Park, Bell, Cudahy, South Gate, Downey, Paramount, Bellflower, Cerritos, and Artesia; County of Los Angeles, California. The corridor is also known as the Southeast Gateway Line. The purpose of this notice is to publicly announce FTA's environmental decisions on the subject project, and to activate the limitation on any claims that may challenge these final environmental actions.

DATES: A claim seeking judicial review of FTA actions announced herein for the listed public transportation project will be barred unless the claim is filed on or before February 18, 2025.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4375), section 4(f) requirements (49 U.S.C. 303), section 106 of the National Historic Preservation Act (54 U.S.C. 306108), Endangered Species Act (16 U.S.C. 1531), Clean Water Act (33 U.S.C. 1251), Rivers and Harbors Act (33 U.S.C. 408), the Uniform Relocation and Real Property Acquisition Policies Act (42 U.S.C. 4601), and the Clean Air Act (42 U.S.C. 7401-7671q). This notice does not, however, alter or extend the limitation period for challenges of project decisions subject to previous notices published in the Federal Register. The project modifications and actions that are the subject of this notice follow:

Project name and location: West Santa Ana Branch Transit Corridor Project (Project), Cities of Los Angeles, Vernon, Huntington Park, Bell, Cudahy, South Gate, Downey, Paramount, Bellflower, Cerritos, and Artesia; County of Los Angeles, California.

Project sponsor: Los Angeles County Metropolitan Transportation Authority (LACMTA), City of Los Angeles, County of Los Angeles, California.

Project description: The Project would construct an approximately 14.5-mile light rail transit (LRT) line from the northern terminus at the City of Los Angeles/Florence-Firestone unincorporated area of Los Angeles County to a southern terminus in the City of Artesia. The Project would be primarily within the right-of-way (ROW) of the Union Pacific Railroad, Port of Long Beach, Port of Los Angeles, or LACMTA. The Project would also include nine LRT stations along the new alignment, one infill station on the C (Green) Line, and five parking facilities.

Final agency actions: Section 106 no adverse effect determination, dated March 12, 2024; section 4(f) de minimis impact determination, dated March 29, 2024; West Santa Ana Branch Corridor Project Record of Decision (ROD), dated August 23, 2024.

Supporting documentation: West Santa Ana Branch Transit Corridor Project Final Environmental Impact Statement/Final Environmental Impact Report (Final EIS/EIR), dated March 29, 2024. West Santa Ana Branch Transit Corridor Project Draft EIS/EIR, dated July 30, 2021. The ROD, Final EIS/EIR, Draft EIS/EIR and associated documents can be viewed and downloaded from: https://www.metro.net/projects/southeastgateway/

Authority: 23 U.S.C. 139(l)(1).

Megan Blum,
Deputy Associate Administrator for Planning and Environment.

[FR Doc. 2024-21582 Filed 9-19-24; 8:45 am]

BILLING CODE 4910-57-P